DEPARTMENT OF JUSTICE

Antitrust Division

Notice Pursuant to the National Cooperative Research and Production Act of 1993—High Density Packaging User Group International, Inc.

Notice is hereby given that, on July 11, 2014, pursuant to Section 6(a) of the National Cooperative Research and Production Act of 1993, 15 U.S.C. 4301 et seq. (“the Act”), High Density Packaging User Group International, Inc. (“HDPUG”) has filed written notifications simultaneously with the Attorney General and the Federal Trade Commission disclosing changes in its membership. The notifications were filed for the purpose of extending the Act's provisions limiting the recovery of antitrust plaintiffs to actual damages under specified circumstances. Specifically, Integral Technologies, Lake Forest, CA; Doosan Corporation Electro-PC Inc., San Jose, CA; and WUS PC Inc., Kunshan, Jiangsu, PEOPLE'S REPUBLIC OF CHINA, have been added as parties to this venture.

Also, Sekisui, Tokyo, JAPAN, has withdrawn as a party to this venture.

No other changes have been made in either the membership or planned activity of the group research project. Membership in this group research project remains open, and HDPUG intends to file additional written notifications disclosing all changes in membership.

On September 14, 1994, HDPUG filed its original notification pursuant to Section 6(a) of the Act. The Department of Justice published a notice in the Federal Register pursuant to Section 6(b) of the Act on March 23, 1995 (60 FR 15306).

The last notification was filed with the Department on February 27, 2014. A notice was published in the Federal Register pursuant to Section 6(b) of the Act on March 27, 2014 (79 FR 17182).

Patricia A. Brink,
Director of Civil Enforcement, Antitrust Division.

[FR Doc. 2014-18764 Filed 8-7-14; 8:45 am]

BILLING CODE 4410-11-P